OVERSEAS PRIVATE INVESTMENT CORPORATION

Sunshine Act; Public Hearing

July 22, 2004.

OPIC's Sunshine Act notice of its public hearing was published in the Federal Register (Volume 69, Number 127, Page 40421) on July 2, 2004. No requests were received to provide testimony or submit written statements for the record; therefore, OPIC's public hearing in conjunction with OPIC's July 29, 2004 Board of Directors meeting scheduled for 10 AM on July 29, 2004 has been cancelled.

FOR FURTHER INFORMATION CONTACT: Information on the hearing cancellation may be obtained from Connie M. Downs at (202) 336-8438, via facsimile at (202) 218-0136, or via email at cdown@opic.gov.

Dated: July 19, 2004.
Connie M. Downs,
OPIC Corporate Secretary.

[FR Doc. 04-16674 Filed 7-19-04; 10:32 am]

BILLING CODE 3210-01-M